DEPARTMENT OF TRANSPORTATION

Federal Aviation Administration

Order 1050.1F Environmental Impact: Policies and Procedures

AGENCY: Federal Aviation Administration (FAA), DOT.

ACTION: Notice; request for public comment.

SUMMARY: The Federal Aviation Administration (FAA) proposes to update, reorganize, and revise its order that contains policies and procedures for implementing the National Environmental Policy Act (NEPA), in accordance with regulations issued by the Council on Environmental Quality (40 CFR parts 1500-1508). The order additionally provides direction on using the NEPA review process to ensure compliance with other environmental laws, regulations, and executive orders that may be applicable to proposed FAA actions. Order 1050.1E Environmental Impact: Policies and Procedures will be replaced with Order 1050.1F Environmental Impact: Policies and Procedures. FAA Order 1050.1F, Environmental Impact: Policies and Procedures is available at http://www.faa.gov/about/office_org/headquarters_ offices/apl/environ_policy_guidance/policy/. This notice provides the public opportunity to comment on the revised Order. All comments on the proposed changes will be considered in preparing the final version of Order 1050.1F.

DATES: Comments should be received by September 30, 2013.

ADDRESSES: You may send comments by any of the following methods:

Federal eRulemaking Docket: Go to http://www.regulations.gov. Follow the online instructions for sending your comments electronically.

Fax: 202-493-2251.

Mail: Send comments to the U.S. Department of Transportation, Docket Operations, M-30, West Building Ground Floor, Room W12-140, 1200 New Jersey Avenue SE., Washington, DC 20590-0001.

Hand Delivery: U.S. Department of Transportation, Docket Operations, M-30, West Building Ground Floor, Room W12-140, 1200 New Jersey Avenue SE., Washington, DC, between 9 a.m. and 5 p.m., Monday through Friday, except Federal holidays.

You may examine the docket, including comments received, on the Internet at http://www.regulations.gov or in person at the U.S. Department of Transportation Docket Operations office between 9 a.m. and 5 p.m., Monday through Friday, except Federal holidays.

FOR FURTHER INFORMATION CONTACT: Donald Scata, Office of Environment and Energy (AEE-400), Federal Aviation Administration, 800 Independence Avenue SW., Washington, DC 20591; telephone (202) 267-9890; email donald.scata@faa.gov.

SUPPLEMENTARY INFORMATION: The National Environmental Policy Act (NEPA) establishes a broad national policy to protect the quality of the human environment and ensures that environmental considerations are given careful attention and appropriate weight in decisions of the Federal Government. Regulations promulgated by the Council on Environmental Quality (CEQ) (40 CFR parts 1500-1508) implement Section 102(2) of NEPA, which contains the “action-forcing” provisions to ensure that Federal agencies act according to the letter and spirit of NEPA. 40 CFR 1505.1 requires Federal agencies to develop and, as needed, revise implementing procedures consistent with the CEQ regulations.

The FAA's current Order 1050.1E, Environmental Impact: Policies and Procedures, provides FAA's policy and procedures for complying with the requirements of: (a) The CEQ regulations for implementing the procedural provisions of NEPA; (b) Department of Transportation (DOT) Order DOT 5610.1C, Procedures for Considering Environmental Impacts, and (c) other applicable environmental laws, regulations, and executive orders and policies. The FAA is proposing to replace Order 1050.1E with Order 1050.1F.

Request for Comment

As part of revising its environmental order, the FAA is seeking comment regarding the proposed changes described below.

Synopsis of Proposed Changes

The proposed FAA Order 1050.1F, Environmental Impacts: Policies and Procedures, includes 29 additions or changes to the current version of FAA Order 1050.1E which may be of interest to the public and other government agencies and organizations. In general, Order 1050.1E has been reorganized to be more clear and concise. In addition, updates to policy and guidance since the publication of 1050.1E Change 1 in 2006 have been incorporated into proposed FAA Order 1050.1F. The following descriptions provide more details on the proposed changes.

Change 1 moves the information in Appendix A of FAA Order 1050.1E, Analysis of Environmental Impact Categories, to the 1050.1F Desk Reference, which can be easily updated as necessary. FAA specific analysis, modeling, and documentation requirements that were contained in Appendix A of FAA Order 1050.1E have been moved to a new Appendix B of FAA Order 1050.1F. These include requirements such as using an FAA approved model for noise analysis.

Change 2 restructures the Order to streamline and focus the discussion, reduce redundancies, and improve the clarity of guidance for NEPA practitioners. Order 1050.1F is divided into eleven chapters as opposed to the five chapters of 1050.1E. The numbering and structure are changed to more closely follow FAA Order 1320.1, FAA Directives Management. In addition, systematic editorial changes have been applied to ensure 1050.1F is consistent with the FAA's plain language guidelines as established in FAA Order 1000.36, FAA Writing Standards (e.g., changes use of the term “shall” to “should” or “must”).

Change 3 expands and updates the FAA's policy statement to include the FAA's goals of ensuring timely, effective, and efficient environmental reviews of proposed Next Generation Air Transportation System (also known as NextGen) improvements, consistent with Executive Order 13604, Improving Performance of Federal Permitting and Review of Infrastructure Projects, 77 Federal Register 18887 (March 28, 2012) (see Paragraph 1-8). The updated policy also includes an environmental management system (EMS) approach that is being used to improve the integration of environmental performance into the planning, decision-making, and operation of NextGen in furtherance of the goal of environmental protection that allows sustained aviation growth. Finally, the policy reflects legislative provisions in FAA reauthorization to expedite the environmental review process for certain air traffic procedures.

Change 4 updates the titles and roles of FAA Lines of Businesses and Staff Offices (LOB/SOs) to reflect changes to the FAA's organizational structure and responsibilities since publication of FAA Order 1050.1E (see Paragraph 2-2.1.b). These revisions include removal of Aviation Policy, Planning, and Environment (AEP) and International Aviation (API), since these divisions have been combined to form a new office known as Policy, International Affairs and Environment (APL). In addition, Financial Services (ABA) is now known as Finance and Management (AFN), and Regulation and Certification (AVR) is now Aviation Safety (AVS). The Region and Center Operations (ARC) is now located under Human Resource Management (AHR). FAA has added two staff offices: NextGen (ANG) and Office of Communications (AOC).

Change 5 clarifies and explains in more detail the FAA's responsibilities (see Paragraph 2-2.1) and the role of applicants and contractors in the FAA's NEPA process (see paragraphs 2-2.2 and 2-2.3). Order 1050.1E did not break out the roles of contractors and applicants, and thus it was difficult for practitioners to clearly understand roles and responsibilities that applicants and contractors may have as the FAA carries out its NEPA requirements.

Change 6 clarifies the similarities and differences between environmental assessments and environmental impact statements throughout the Order. The terminology EIS or EA has been replaced with NEPA documentation when guidance would apply to either type of document to help clarify section 206a of 1050.1E which states that requirements that apply to EIS's may also be used for the preparation of EA's. Alternatively, when guidance is specific to an EA or to an EIS, but not to both, the appropriate type of document is stated. Specifically, Order 1050.1F explains in more detail than 1050.1E paragraphs 405 d, e, and f the requirement to consider connected actions in environmental assessments.

Change 7 reorganizes and clarifies provisions relating to mitigation including updating the guidance to be consistent with CEQ's guidance on Appropriate use of Mitigation and Monitoring and Clarifying the Appropriate use of Mitigated Finding of No Significant Impacts (January 24, 2011) (see Paragraphs 2-3.6, 4-4, 6-2.3, and 7-1.1.h). The proposed changes also clarify which projects may warrant environmental monitoring and the type and extent of monitoring.

Change 8 adds a discussion of Environmental Management System (EMS) to highlight the importance of EMS and the potential benefit of aligning NEPA with the elements of EMS (see Paragraph 2-3.3).

Change 9 revises the list of actions normally requiring an EA to align more clearly and accurately with the FAA's experience of actions which normally involve the preparation of an EA.

Actions newly identified as normally requiring an EA are in Paragraph3-1.2b(14): Establishment or modification of an Instrument Flight Rules Military Training Route (IR MTRs); and Paragraph 3-1.2b(17): Formal and informal runway use programs that may significantly increase noise over noise-sensitive areas.

Actions normally requiring an EA that are amended include Paragraphs 3-1.2b(2), 10-13, 15, and 16.

Paragraph 3-1.2b(2) modifies the language of 401b of 1050.1E to include all types of certificates for aircraft types for which environmental regulations have not been issued, and new amended engine types for which emission regulations have not been issued where an environmental analysis has not been prepared with a regulatory action.

Paragraph 3-1.2b(10), formally 401k of 1050.1E, was changed to limit the typical EA to new commercial service airport locations that would not be located in a Metropolitan Statistical Area (MSA). In addition, the description of a new runway was limited by stating that the new runway is at an existing airport that is not located in an MSA. Major runway extension projects were removed from this list and added to the list of actions that typically require an environmental impact statement.

Paragraph 3-1.2b(11) changes 401l of 1050.1E to provide more clarity when the issuance of operations specifications normally requires an EA; specifically any approval of operations specifications that may change the character of the operational environment when authorizing passenger or cargo service, or authorizing an operator to serve an airport with different aircraft when that service may significantly increase noise, air, or other environmental impacts.

Paragraphs 3-1.2b(12) and (13) amend 401m and 401n of 1050.1E, respectively, to include a caveat that certain procedures may be categorically excluded under new legislative categorical exclusions in the FAA Modernization and Reform Act of 2012. Paragraph 3.1.2b(12) describes as normally requiring an EA: New instrument approach procedures, departure procedures, en route procedures, and modifications to currently approved instrument procedures which routinely route aircraft over noise sensitive areas at less than 3,000 feet above ground level (AGL) (unless otherwise categorically excluded under Paragraphs 5-6.5q or 5-6.5r). Paragraph 3.1.2b(13) describes as normally requiring an EA: New or revised air traffic control procedures which routinely route air traffic over noise sensitive areas at less than 3,000 feet AGL (unless otherwise categorically excluded under Paragraphs 5-6.5q or 5.6.5r).

Paragraph 3-1.2b(15) modifies 401p of 1050.1E to remove the four requirements for the notice of proposed rulemaking for Special Use Airspace projects since these criteria are not based on environmental impact, but on the process for establishing special use airspace. The proposed paragraph describes actions normally requiring an EA: Special Use Airspace (unless otherwise explicitly listed as an advisory action (see Paragraph 2-1.2b, Advisory Actions) or categorically excluded under Paragraph 5-6, the FAA's List of Approved CATEXs).

Paragraph 3-1.2b(16) modifies 401c of 1050.1E to clarify the type of commercial space launch actions that normally require an EA. The proposed paragraph states issuance of any of the following requires an EA: (a) A commercial space launch site operator license for operation of a launch site at an existing facility on disturbed ground where little to no infrastructure would be constructed (e.g., co-located with a federal range or municipal airport); or (b) A commercial space launch license, reentry license, or experimental permit to operate a vehicle to/from an existing site.

Change 10 modifies and re-organizes the text in Paragraph 501 of FAA Order 1050.1E on EIS and adds the following specific examples of actions normally requiring an EIS (see Paragraphs 3-1.3.b). (1) Federal financial participation in, or unconditional ALP approval of, the following categories of airport actions: (a) Location of a new commercial service airport in an MSA; (b) A new runway to accommodate air carrier aircraft at a commercial service airport in an MSA; and (c) major runway extension; and (2) issuance of a commercial space launch site operator license, launch license, or experimental permit to support activities requiring the construction of a new commercial space launch site on largely undisturbed ground.

Change 11 combines the discussion of programmatic NEPA documents and tiering and revises the text to more closely align with CEQ Regulations and guidance (see Paragraph 3-2).

Change 12 adds a new Chapter 4 to describe environmental impact categories, significance thresholds, and factors to consider in determining the significance of environmental impacts. These details were previously discussed in Appendix A of FAA Order 1050.1E. There are additions and modifications to the list of impact categories. Climate has been added to the list of impact categories to be considered in FAA NEPA documents, consistent with CEQ's 2010 Draft NEPA Guidance on Consideration of the Effects of Climate Change and Greenhouse Gas Emissions and FAA Order 1050.1E Guidance Memo #3, Considering Greenhouse Gases and Climate under the National Environmental Policy Act (NEPA): Interim Guidance. Noise and noise-compatible land use have been combined into a single impact category to provide better context and clarity. The remaining land use topics are discussed as a separate category. Water Resource impacts have been combined to include water quality, wetlands, floodplains, surface waters, groundwater, and wild and scenic rivers. Construction and secondary impacts have been removed as separate categories, and instead are to be analyzed within each applicable environmental impact category. Further guidance on impact category analysis is contained within the 1050.1F Desk Reference.

Change 13 provides a table in paragraph 4-3.3 that summarizes the significance thresholds that were formerly described under individual environmental impact categories in Appendix A of FAA Order 1050.1E. This table also includes Factors to Consider in making determinations of significant impact. There are modifications to significance thresholds: (1) Surface Waters now includes “contaminate a public drinking water supply such that public health may be adversely affected” as a threshold and (2) Groundwater contains “contaminate an aquifer used for public water supply such that public health may be adversely affected” as a threshold. (See Exhibit 4-1, Significance Determination for FAA Actions).

Change 14 revises the list of extraordinary circumstances (see Paragraph 5-2.b). National marine sanctuaries and wilderness areas have been added to the list of resources that must be considered in evaluating actions for extraordinary circumstances that would preclude the use of a categorical exclusion for a proposed action. Makes other text revisions, including modifying (1) the description of wild and scenic rivers [EME: Deleted b/c use of word “modifying” before sentence] to be consistent with CEQ's August 10, 1980, Memorandum on Procedures for Interagency Consultation to Avoid or Mitigate Adverse Effects on Rivers in the Nationwide Inventory; and (2) the description of hazardous materials likely to cause environmental contamination by hazardous materials, or likely to disturb an existing hazardous material contamination site such that new environmental contamination risks are created.

Change 15 updates the FAA's guidance regarding CATEX documentation to be consistent with CEQ's 2010 Guidance on Establishing, Applying, and Revising Categorical Exclusions under National Environmental Policy Act [NEPA] (November 23, 2010) (see Paragraph 5-3). These updates include: clarifying when and what level of documentation is needed in the application of a CATEX and explaining what to include in CATEX documentation. In addition, there is a new section providing information on combining a decision document with a CATEX (CATEX/RODs). CATEX/RODs are not commonly used, but may be advisable in unique circumstances.

Change 16 adds guidance on public notification of CATEX use, consistent with CEQ's 2010 Guidance on Establishing, Applying, and Revising Categorical Exclusions under National Environmental Policy Act (November 23, 2010) (see Paragraph 5-4).

Change 17 adds new CATEXs and revises existing CATEXs to accommodate actions that do not have the potential to significantly affect the environment, absent extraordinary circumstances. A categorical exclusion justification package is available at http://www.faa.gov/about/office_org/headquarters_offices/apl/environ_policy_guidance/policy/. New CATEXs are the following:

Paragraph 5-6.3i adds a categorical exclusion for the unconditional approval of an Airport Layout Plan (ALP), federal financial assistance, or FAA projects for the installation of solar or wind powered energy, provided the installation does not involve more than three total acres.

Paragraph 5-6.4bb adds a categorical exclusion for an unconditional ALP approval or federal financial assistance for actions related to a purchase of land for a runway protection zone or other aeronautical purpose, provided there is no land disturbance.

Paragraph 5-6.4cc adds a categorical exclusion for an unconditional ALP approval or federal financial assistance to permanently close a runway and use it as a taxiway at small, low activity airports provided any changes to lights or pavement would be on previously developed airport land.

Paragraph 5-6.4dd adds a categorical exclusion for FAA construction, reconstruction or relocation of a non-Radar, Level 1 air traffic control tower at an existing visual flight rule airport, or FAA unconditional approval of an ALP and/or federal funding provided the action would occur on a previously disturbed area of the airport and not: (1) cause an increase in the number of aircraft operations, a change in the time of aircraft operations, or a change in the type of aircraft operating at the airport; (2) cause a significant noise increase in noise sensitive areas; or (3) cause significant air quality impacts.

Paragraph 5-6.4ee adds a categorical exclusion for environmental investigation of hazardous waste or hazardous substance contamination on previously developed land provided the work plan or Sampling and Analysis Plan (SAP) for the project integrates current industry best practices and address, as applicable, surface restoration, well and soil boring decommissioning and the collection, storage, handling, transportation, minimization, and disposal of investigation derived wastes and other federal or state regulated wastes generated by the investigation. The work plan or SAP must be coordinated with and, if required, approved by the appropriate or relevant governmental agency or agencies prior to commencement of work.

Paragraph 5-6.4ff adds a categorical exclusion for remediation of hazardous wastes or hazardous substances impacting approximately one acre in aggregate surface area provided remedial or corrective actions must be performed in accordance with an approved work plan (i.e., remedial action plan, corrective action plan, or similar document) that documents applicable current industry best practices and addresses, as applicable, permitting requirements, surface restoration, well and soil boring decommissioning, and the minimization, collection, storage, handling, transportation, and disposal of federal or state regulated wastes. The work plan must be coordinated with, and if required, approved by, the appropriate governmental agency or agencies prior to the commencement of work.

As a matter of policy, actions under the Comprehensive Environmental Response, Compensation and Liability Act (CERCLA) and corrective actions under the Resource Conservation and Recovery Act (RCRA) generally do not require separate analysis under NEPA or the preparation of a NEPA document. FAA will rely on CERCLA processes for environmental review of actions to be taken under CERCLA, and will address NEPA values to the extent practicable. As a matter of law, there is a statutory conflict between NEPA and CERCLA; NEPA, therefore, does not apply to CERCLA cleanup actions. FAA may rely on the CERCLA process for RCRA corrective actions if the action is to be taken under a compliance agreement for an FAA site on the CERCLA National Priorities List that integrates the requirements of RCRA and CERCLA to such an extent that the requirements are largely inseparable in a practical sense.

Paragraph 5-6.5f adds a categorical exclusion for actions to increase the altitude of special use airspace.

In addition, two legislative CATEXs, provided in section 213(c) of the FAA Modernization and Reform Act of 2012, are added (see Paragraphs 5-6.5q and 5-6.5r). One allows for a categorical exclusion for Area Navigation/Required Navigation Performance (RNP) procedures proposed for core airports and any medium or small hub airports located within the same metroplex area, and for RNP procedures proposed at 35 non-core airports selected by the Administrator, subject to extraordinary circumstances. The second provides a categorical exclusion for any navigation performance or other performance based navigation procedure developed, certified, published, or implemented that, in the determination of the Administrator, would result in measurable reductions in fuel consumption, carbon dioxide emissions, and noise on a per flight basis as compared to aircraft operations that follow existing instrument flight rules procedures in the same airspace irrespective of the altitude.

CATEXs that are amended include the following:

Paragraph 5-6.4e (formerly 310e), is modified to include widening of a taxiway, apron, loading ramp, or runway safety area (RSA) including an RSA using Engineered Material Arresting System (EMAS), or widening of an existing runway.

Paragraph 5-6.4i (formerly 310i) is modified to allow for financial assistance for or unconditional approval of an ALP for the demolition or removal of non-FAA owned buildings and structures on airports except those of historic archeological or architectural significance. This CATEX also adds the expansion of a facility or structure where no hazardous substance contamination or contaminated equipment is present on the site.

Paragraph 5-6.4u (formerly 310u) is expanded to include unconditional approval of an ALP for the installation, repair or replacement of on-airport aboveground storage tanks or underground storage tanks. The CATEX further clarifies that the closure and removal applies to the fuel storage tank, and remediation applies to the contaminants resulting from the use of the fuel storage tank. It also clarifies that distribution systems are not within the scope of the CATEX.

Paragraph 5-6.5l (formerly 311l) is modified to allow for Federal financial assistance, unconditional ALP approval, or other FAA action to establish a displaced threshold on an existing runway. It further states that removal or establishment of a displaced threshold is allowed within the scope of the categorical exclusion provided the action does not require establishing or relocating an approach light system that is not on airport property or an instrument landing system.

CATEXs that are slightly modified are as follows:

Paragraph 5-6.2c (formerly 308c) is modified to include operating certificates. This is a clarification since these certificates are the same as the previously mentioned certificates.

Paragraph 5-6.3h (formerly 309h) is revised for clarity. The terminology “launch facility” is changed to “commercial space launch site.”14 CFR part 107, Airport Security, no longer exists and has been removed.

Paragraph 5-6.4f (formerly 310f) is modified to include hangers and t-hangers as long as any increase in aircraft does not contribute to significant noise increases in noise sensitive areas or significant increases in air emissions.

Paragraph 5-6.4h (formerly 310h) has been clarified to include non-aeronautical uses at existing airports or commercial space launch sites.

Paragraph 5-6.5b (formerly 311b) adds clarification that this applies to establishment of jet routes as they are one type of federal airway.

Paragraph 5-6.5c (formerly 311c) adds the example “reduction in times of use (e.g., from continuous to intermittent, or use by a Notice to Airmen (NOTAM)” to the list of “such as” actions. This clarifies that actions to return all or part of special use airspace (SUA) to the National Airspace System (NAS) includes reduction in times of use.

Paragraph 5-6.5g (formerly 311g) is slightly modified to include “Required Navigation Performance” (RNP). It also specifies that a Noise Screening Tool or other FAA-approved environmental screening methodology should be used.

Paragraph 5-6.5h (formerly 311h) is slightly modified to include “modification” of helicopter routes to clarify that establishment of helicopter routes also includes modification of these routes as long as they channel helicopter activity over major thoroughfares.

Paragraph 5-6.5i (formerly 311i) updates reference to a Noise Screening Tool (NST) or other FAA approved environmental screening methodology.

Paragraph 5-6.6b is modified to provide clarity that the categorical exclusion applies to an aerobatic practice area containing one aerobatic practice box in accordance with 1050.1E Guidance Memo #5, Clarification of FAA Order 1050.1E CATEX 312b to Aerobatic Actions.

Change 18 revises the discussion of EA format and process to streamline the explanation of each element and clarify that an EA should be concise and focused and should not be as detailed as an EIS (see Paragraph 6-2). Since this section has been reduced in detail, there are cross-references to the corresponding EIS sections for environmental assessments that may need to be more substantial.

Change 19 revises the language in notices soliciting public comment on draft EAs and draft EISs, stating that personal information provided by commenters (e.g., addresses, phone numbers, and email addresses) may be made publicly available (see Paragraphs 6-2.2.e and 7-1.2.d(1)(a)).

Change 20 adds a new paragraph to explain the conditions under which the FAA may choose to terminate preparation of an EIS and clarifies what steps the FAA should take when this situation occurs (see Paragraph 7-1.3).

Change 21 adds a discussion of FAA policy with respect to consideration of transboundary impacts resulting from FAA actions (see Paragraph 8-3).

Change 22 updates the discussion of international actions to be consistent with DOT Order 5610.1, including guidance on coordination within the FAA/DOT and U.S. State Department when communication with foreign governments is needed (see Paragraph 8-4).

Change 23 clarifies the alternative process to consider environmental impacts before taking emergency actions necessary to protect the lives and safety of the public in emergency circumstances. These alternative arrangements are limited to actions necessary to control the immediate impacts of an emergency. Order 1050.1F expands this section to provide for emergency procedures when a CATEX or EA would be the appropriate level of NEPA review (see Paragraph 8-5).

Change 24 clarifies and expands on requirements relating to FAA adoption of other agencies' NEPA documents (see Paragraph 8-7). Clarifies requirements for legal sufficiency review of adopted documents and when this review is required (see Paragraph 8-7.d). Also adds a discussion of recirculation requirements for EISs to highlight that there are some circumstances in which adopted documents must be re-circulated (see Paragraph 8-7.f).

Change 25 clarifies that there is no specified format for written re-evaluations. It also adds a statement to explain that written re-evaluations may be prepared even when they are not required. In addition, this section also adds a discussion of combining decision documents with written re-evaluations (i.e., a “WR/ROD”) (see Paragraph 9-2).

Change 26 streamlines, consolidates, and clarifies provisions relating to review, approval, and signature authority for FAA NEPA documents (see Chapter 10).

Change 27 revises text in Paragraph 11-2 to clarify the authority of various parties and to be consistent with other FAA Orders (see Paragraph 11-2).

Change 28 clarifies provisions relating to explanatory guidance (see Paragraph 11-4).

Change 29 adds definitions of “NEPA lead” and “special purpose laws and requirements.” It deletes the definition of “Environmental Due Diligence Audit” because this term is no longer used in FAA Order 1050.1F. Definitions of “environmental studies”, “approving official”, and “decisionmaker” are revised to reflect current practice. The definition of “launch facility” is changed to “commercial space launch site” to be consistent with 14 CFR part 420. The definition of “noise sensitive area” is revised to include a reference to Table 1 of 14 CFR part 150 rather than Appendix A of FAA Order 1050.1E, to provide context in light of the removal of Appendix A from proposed Order 1050.1F. (See Paragraph 11-5.b).

Issued in Washington, DC, on August 9, 2013.
Lourdes Q. Maurice,
Executive Director, Office of Environment and Energy.

[FR Doc. 2013-19734 Filed 8-13-13; 8:45 am]

BILLING CODE P